DEPARTMENT OF TRANSPORTATION

Federal Aviation Administration

Notice of Intent To Rule on Application To Impose and Use the Revenue From a Passenger Facility Charge (PFC) at Long Beach Municipal Airport (Daugherty Field), Long Beach, CA

AGENCY: Federal Aviation Administration (FAA), DOT.

ACTION: Notice of intent to rule on application.

SUMMARY: The FAA proposes to rule and invites public comment on the application to impose and use the revenue from a PFC at Long Beach Municipal Airport (Daugherty Field) under the provisions of the Aviation Safety and Capacity Expansion Act of 1990 (title IX of the Omnibus Budget Reconciliation Act of 1990) (Pub. L. 101-508) and part 158 of the Federal Aviation Regulations (14 CFR part 158).

DATES: Comments must be received on or before April 7, 2003.

ADDRESSES: Comments on this application may be mailed or delivered in triplicate to the FAA at the following address: Federal Aviation Administration, Airports Division, 15000 Aviation Blvd., Room 3024, Lawndale, CA 90261. In addition, one copy of any comments submitted to the FAA must be mailed or delivered to Mr. Edward Shikada, Director of Public Works at the following address, City of Long Beach, 333 West Ocean Blvd., Long Beach, CA 90802. Air carriers and foreign air carriers may submit copies of written comments previously provided to the City of Long Beach under § 158.23 of part 158.

FOR FURTHER INFORMATION CONTACT: Ruben Cabalbag, Airports Program Engineer, Airports Division, Federal Aviation Administration, 15000 Aviation Blvd., Room 3024, Lawndale, CA 90261, Telephone (310) 725-3630. The application may be reviewed in person at this same location.

SUPPLEMENTARY INFORMATION: The FAA proposes to rule and invites public comment on the application to impose and use the revenue from a PFC at Long Beach Municipal Airport (Daugherty Field) under the provisions of the Aviation Safety and Capacity Expansion Act of 1990 (title IX of the Omnibus Budget Reconciliation Act of 1990) (Pub. L. 101-508) and part 158 of the Federal Aviation Regulations (14 CFR part 158).

On February 6, 2003, the FAA determined that the application to impose and use the revenue from a PFC submitted by the City of Long Beach was substantially complete within the requirements of § 158.25 of part 158. The FAA will approve or disapprove the application, in whole or in part, no later than May 8, 2003.

The following is a brief overview of the impose and use PFC application number 03-02-C-00-LGB:

Level of proposed PFC: $3.00.

Propose charge effective date: June 1, 2003.

Proposed charge expiration date: July 1, 2009.

Total estimated PFC revenue: $30,306,984.

Brief description of the proposed project(s): Airfield pavement rehabilitation—Runway 12/30, airfield pavement, terminal area improvements, airport security—security system upgrade, aircraft rescue and firefighting vehicles.

Class or classes of air carriers which the public agency has requested not be required to collect PFCs: Non-scheduled/on-demand air carriers.

Any person may inspect the application in person at the FAA office listed above under FOR FURTHER INFORMATION CONTACT. In addition, any person may, upon request, inspect the application, notice and other documents germane to the application in person at the City of Long Beach.

Issued in Lawndale, California, on February 6, 2003.
Herman C. Bliss,
Manager, Airports Division, Western-Pacific Region.

[FR Doc. 03-5460 Filed 3-6-03; 8:45 am]

BILLING CODE 4910-13-M